DEPARTMENT OF DEFENSE

Office of the Secretary

Defense Policy Board

AGENCY: Department of Defense.

ACTION: Modification of Federal Advisory Committee Charter.

SUMMARY: Under the provisions of the Federal Advisory Committee Act of 1972 (5 U.S.C. Appendix, as amended), the Government in the Sunshine Act of 1976 (5 U.S.C. 552b, as amended), and 41 CFR 102-3.65, the Department of Defense gives notice that it intends to revise the charter for the Defense Policy Board. Specifically, the Department is, (a) Changing the name of the committee from the Defense Policy Board Advisory Committee to the Defense Policy Board; (b) increasing the number of committee members from twenty-six to twenty-eight; and (c) updating the operating cost.

FOR FURTHER INFORMATION CONTACT: Contact Jim Freeman, DoD Committee Management Office, 703-601-6128.

SUPPLEMENTARY INFORMATION: The Defense Policy Board, pursuant to 41 CFR 102-3.50(d), is a discretionary Federal advisory committee established to provide the Secretary of Defense and the Deputy Secretary of Defense, through the Under Secretary of Defense for Policy, with independent, informed advice and opinion concerning matters of defense policy.

The Board will focus on: (a) Issues central to strategic DoD planning; (b) policy implications of U.S. force structure and force modernization and transformation on DoD's ability to execute U.S. defense strategy; (c) U.S. regional defense policies; and (d) any other research and analysis of topics raised by the Secretary of Defense, Deputy Secretary or Under Secretary of Defense for Policy.

The Under Secretary of Defense (Policy) may act upon the Board's advice and recommendations.

The Defense Policy Board shall be comprised of no more than twenty-eight members, who have distinguished backgrounds in national security affairs, and no more than four of the members shall be Federal officers or employees.

Board members appointed by the Secretary of Defense, who are not full-time Federal officers or employees, shall be appointed as experts and consultants under the authority of 5 U.S.C. 3109, and serve as Special Government Employees. Board members will be appointed to serve a term of two years, and their consultant appointments will be renewed annually. With the exception of travel and per diem for official travel, Board members shall serve without compensation.

The Secretary of Defense shall select the Board's Chairperson from the membership at large. In addition, the Under Secretary of Defense for Policy may appoint consultants to advise the Board and Board's task forces and these individuals shall have no voting privileges.

The Defense Policy Board shall meet at the call of the Board's Designated Federal Officer, in consultation with the Chairperson and the Under Secretary of Defense for Policy. The Designated Federal Officer shall be a full-time or permanent part-time DoD employee, and shall be appointed in accordance with established DoD policies and procedures. The Designated Federal Officer or duly appointed Alternate Designated Federal Officer shall attend all Board meetings and subcommittee meetings.

The Defense Policy Board shall be authorized to establish subcommittees, as necessary and consistent with its mission, and these subcommittees or working groups shall operate under the provisions of the Federal Advisory Committee Act of 1972 (5 U.S.C., Appendix, as amended), the Government in the Sunshine Act of 1976 (5 U.S.C. 552b, as amended), and other appropriate Federal regulations.

Such subcommittees or workgroups shall not work independently of the chartered Board, and shall report all their recommendations and advice to the Defense Policy Board for full deliberation and discussion. Subcommittees or workgroups have no authority to make decisions on behalf of the chartered Board nor can they report directly to the Department of Defense or any Federal officers or employees who are not members of the Defense Policy Board.

Pursuant to 41 CFR 102-3.105(j) and 102-3.140, the public or interested organizations may submit written statements to the Defense Policy Board membership about the committee's mission and functions. Written statements may be submitted at any time or in response to the stated agenda of planned meetings of the Defense Policy Board.

All written statements shall be submitted to the Designated Federal Officer for the Defense Policy Board, and this individual will ensure that the written statements are provided to the membership for their consideration. Contact information for the Designated Federal Officer can be obtained from the GSA's FACA Database— https://www.fido.gov/facadatabase/public.asp.

The Designated Federal Officer, pursuant to 41 CFR 102-3.150, will announce planned meetings of the Defense Policy Board. The Designated Federal Officer, at that time, may provide additional guidance on the submission of written statements that are in response to the stated agenda for the planned meeting in question.

Dated: May 12, 2009.
Morgan E. Frazier,
Alternate Federal Register Liaison Officer, Department of Defense.

[FR Doc. E9-11350 Filed 5-14-09; 8:45 am]

BILLING CODE 5001-06-P